DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary of Health have taken final action in the following case:

Ayman Saleh, Ph.D., University of Pittsburgh: Based on the report of an inquiry conducted by the University of Pittsburgh and additional analysis conducted by ORI in its oversight review, the U.S. Public Health Service (PHS) found that Dr. Saleh, former postdoctoral research associate, School of Medicine, University of Pittsburgh, engaged in scientific misconduct in research supported by the National Institutes of Health.

PHS finds that Dr. Saleh falsified:

(A) Data for a manuscript which purported to show Western blots of rabbit Bcl-2 and tubulin; the blots were actually obtained from different experiments by another researcher using antibody against Hsp70 and against Bag-1, respectively;

(B) The label on a Western blot for Bcl-2 that he presented to the inquiry committee as evidence that he had conducted the experiment at issue; the blot was actually from a different experiment by a coworker;

(C) Data for a laboratory figure purported to represent a rabbit PARP cleavage blot; the data was from another experiment, and the antibody to PARP was not available to Dr. Saleh at that time;

(D) Western blot data on pcasp-9 and p37/p35 for a manuscript on Hsp27; the data represented experiments that could not be performed because the cell lines were unavailable at the time; and

(E) Figure 2b, the panel that shows a Western blot of Casp-9(WT) in a publication by Srinivasa M. Srinivasula, Ramesh Hegde, Ayman Saleh, Pinaki Datta, Eric Shiozaki, Jijie Chais, Ryung-Ah Lee, Paul D. Robbins, Theresa Fernandes-Alnemri, Yigong Shi, and Emad S. Alnemri. “A conserved XIAP-interaction motif in caspase-9 and Smac/DIABLO regulates caspase activity and apoptosis.” Nature 410(6824):112-116, 2001. The Figure 2b data were actually taken from a Western blot of Bcl-XL data, in which Dr. Saleh transposed the lanes.

The experiments examined the regulation of programmed cell death (apoptosis), a process that is important to a better understanding of cancer. Figure 2b in the Nature paper represented a control experiment that confirmed the association of an X-linked gene to a particular type of apoptosis.

Dr. Saleh has entered into a Voluntary Exclusion Agreement with PHS in which he has voluntarily agreed for a period of three (3) years, beginning on May 3, 2001:

(1) To exclude himself from any contracting or subcontracting with any agency of the United States Government and from eligibility for, or involvement in, nonprocurement transactions (e.g., grants and cooperative agreements) of the United States Government as defined in 45 CFR Part 76 (Debarment Regulations);

(2) To exclude himself from serving in any advisory capacity to PHS, including but not limited to service on any PHS advisory committee, board, and/or peer review committee.

FOR FURTHER INFORMATION CONTACT: Director, Division of Investigative Oversight, Office of Research Integrity, 5515 Security Lane, Suite 700, Rockville, MD 20852, (301) 443-5330.

Chris Pascal,
Director, Office of Research Integrity.

[FR Doc. 01-12681 Filed 5-18-01; 8:45 am]

BILLING CODE 4150-31-M